DEPARTMENT OF ENERGY

Federal Energy Regulatory Commission

[Docket No. ER00-2132-000]

Entergy Services, Inc.; Notice of Filing

April 18, 2000.

Take notice that on April 6, 2000, Entergy Services, Inc. (Entergy), tendered for filing an unexecuted Interconnection and Operating Agreement between Entergy Gulf States and Calcasieu Power, LLC.

Any person desiring to be heard or to protest said filing should file a motion to intervene or protest with the Federal Energy Regulatory Commission, 888 First Street, NE, Washington, DC 20426, in accordance with Rules 211 and 214 of the Commission's Rules of Practice and Procedure (18 CFR 385.211 and 385.214). All such motions or protests must be filed on or before April 27, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

Linwood A. Watson, Jr.,
Acting Secretary.

[FR Doc. 00-10062 Filed 4-21-00; 8:45 am]

BILLING CODE 6717-01-M